DEPARTMENT OF THE INTERIOR

Fish and Wildlife Service

Draft Recovery Plan for the Northern Spotted Owl (Strix occidentalis caurina)

AGENCY: U.S. Fish and Wildlife Service, Interior.

ACTION: Extension of comment period.

SUMMARY: We, the U.S. Fish and Wildlife Service, announce a 60-day extension of the comment period for the Draft Recovery Plan for the Northern Spotted Owl (Strix occidentalis caurina) (northern spotted owl).

DATES: Comments on the draft recovery plan must now be received on or before August 24, 2007.

ADDRESSES: Comments on the plan can be sent electronically to NSOplan@fws.gov, or mailed to NSO Recovery Plan, U.S. Fish and Wildlife Service, Ecological Services, 911 NE 11th Avenue, Portland, Oregon 97232. Copies of the draft recovery plan will be available by request from the same Portland address (telephone: 503-231-2194). An electronic copy of the draft recovery plan is also available at http://www.fws.gov/pacific/ecoservices/endangered/recovery/plans.html.

FOR FURTHER INFORMATION CONTACT: Paul Phifer, Northern Spotted Owl Recovery Plan Project Manager, at the Portland address identified above (telephone 503-724-1886, fax 503-231-2050).

SUPPLEMENTARY INFORMATION:

Background

Restoring endangered or threatened animals and plants to the point where they are again secure, self-sustaining members of their ecosystems is a primary goal of our endangered species program. The Endangered Species Act (16 U.S.C. 1531 et seq.) (ESA) requires the development of recovery plans for listed species unless such a plan would not promote the conservation of a particular species. Recovery plans help guide the recovery effort by describing actions considered necessary for the conservation of the species, establishing criteria for downlisting or delisting listed species, and estimating time and cost for implementing the measures needed for recovery.

Section 4(f) of the ESA requires that public notice, and an opportunity for public review and comment, be provided during recovery plan development. We will consider all information presented during the public comment period. Substantive comments on the recovery needs of the species or other aspects of recovery plan development may result in changes to the recovery plan. Substantive comments regarding recovery plan implementation may not necessarily result in changes to the recovery plan, but will be forwarded to appropriate Federal agencies or other entities so that they can take these comments into account during the course of implementing recovery actions. Individual responses to comments will not be provided.

The northern spotted owl inhabits structurally complex forests from southwest British Columbia through the Cascade Mountains and coastal ranges in Washington, Oregon, and California, as far south as Marin County. When the northern spotted owl was listed under the ESA as a threatened species on June 26, 1990, the major threats were identified as widespread loss and adverse modification of suitable habitat across the owl's entire range and the inadequacy of existing regulatory mechanisms to conserve the owl. Currently, populations of northern spotted owls are declining, especially in the northern parts of the species' range.

Scientific research and monitoring have reported that northern spotted owls generally rely on older forested habitats because such habitats contain the structures and characteristics required for nesting, roosting, and foraging. Recent landscape-level studies in several southern portions of the northern spotted owl's range suggest a mosaic of forest conditions may result in good northern spotted owl habitat, though other studies have not reported that finding.

The most important threat currently facing the northern spotted owl is believed to be competition with the barred owl (Strix varia). Actions associated with addressing the barred owl threat were given the highest recovery priority, meaning the action “must be taken to prevent extinction or prevent the species from declining irreversibly in the foreseeable future.” Other important threats to the northern spotted owl continue to be loss of habitat quality and quantity as a result of past activities and disturbances, and ongoing and projected loss of habitat as a result of fire, logging and conversion of habitat to other uses.

The draft recovery plan provides two options for recovery, and we are seeking public comment on the effectiveness of both options to achieve recovery. Both options are based on the same underlying science, and contain essentially the same recovery goal, objectives, criteria, and actions. The options differ in that option 1 identifies (i.e., maps) the specific conservation area boundaries in which most of the recovery actions and criteria will be targeted. Option 2 does not designate specific conservation area boundaries, rather it provides a “rule set” that will help guide the Federal land management agencies when undertaking conservation actions for the northern spotted owl. Both options rely on Federal lands to provide the primary contribution for northern spotted owl recovery.

The intent of providing two options for public comment in a draft recovery plan is to promote open public discussion about how to successfully recover this species.

Public Comments Solicited

We are soliciting written comments on the draft recovery plan described. All comments received by the date specified above will be considered in the finalization of this plan. Before including your address, phone number, e-mail address, or other personal identifying information in your comment, you should be aware that your entire comment—including your personal identifying information—may be made publicly available at any time. While you can ask us in your comment to withhold your personal identifying information from public review, we cannot guarantee that we will be able to do so. Comments and materials received will be available for public inspection, by appointment, during normal business hours at the above address.

We would specifically appreciate comments on the following topics found in both options:

• The methods used to determine desired habitat percentages listed in Recovery Criterion 4. If recommendations are offered, respondents are asked to explain the scientific foundation supporting their comments;

• The biological need, design and feasibility of attempting to provide connectivity between the Olympic Peninsula and central Washington northern spotted owl populations;

• The biological value in identifying conservation areas in southwest Washington and northwest Oregon;

• The practicality of Appendix E, which provides examples of how a salvage logging action (Recovery Action 22) may be implemented;

• The identified boundaries of the Managed Owl Conservation Areas (option 1 only) and the Conservation Support Areas;

• Methods for managing the threat posed by barred owls; and

• Ways to create incentives for private land owners and managers to support recovery of the northern spotted owl.

Authority

The authority for this action is section 4(f) of the Endangered Species Act, 16 U.S.C. 1533(f).

Dated: May 25, 2007.
David J. Wesley,
Acting Regional Director, Region 1, U.S. Fish and Wildlife Service.

[FR Doc. E7-11492 Filed 6-13-07; 8:45 am]

BILLING CODE 4310-55-P